DEPARTMENT OF EDUCATION

National Assessment Governing Board; Meeting

AGENCY: National Assessment Governing Board; U.S. Department of Education.

ACTION: Notice of Teleconference Meeting.

SUMMARY: This notice sets forth the schedule and proposed agenda of a forthcoming teleconference meeting of the Reporting and Dissemination Committee of the National Assessment Governing Board. This notice also describes the functions of the Board. Notice of this meeting is required under section 10(a)(2) of the Federal Advisory Committee Act.

DATES: December 11, 2003.

Time: 10 a.m., adjournment, approximately, 12 noon.

Location: National Assessment Governing Board; 800 North Capitol Street, NW., Suite #825, Washington, DC 20001.

FOR FURTHER INFORMATION CONTACT: Munira Mwalimu, Operations Officer, National Assessment Governing Board, 800 North Capitol Street, NW., Suite #825, Washington, DC 20002-4233, telephone: (202) 357-6938.

SUPPLEMENTARY INFORMATION: The National Assessment Governing Board is established under section 302 of the National Assessment of Educational Progress Act (Pub. L. 107-279).

The Board is established to formulate policy guidelines for the National Assessment of Educational Progress. The Board is responsible for selecting subject areas to be assessed, developing assessment objectives, identifying appropriate achievement goals for each grade and subject tested, developing guidelines for reporting and disseminating results, establishing standards and procedures for interstate and national comparisons, planning and executing the initial public release of reports, and exercising final authority on the appropriateness of all assessment items. On Thursday, December 11, 2003 the Reporting and Dissemination Committee will hold a teleconference meeting from 10 a.m. to 12 noon to review and approve background questions proposed for use in assessments to be conducted by the National Assessment of Educational Progress in 2005.

A summary of the activities of the teleconference meeting, and other related matters which are informative to the public and consistent with the policy of the section 5 U.S.C. 552b(c), will be available to the public within 14 days after the meeting. Records are kept of all Board proceedings and are available for public inspection at the U.S. Department of Education, National Assessment Governing Board, 800 North Capitol Street, NW., Suite #825, Washington, DC 20002, from 8:30 a.m. to 5 p.m. (EST).

Dated: November 20, 2003.
Charles Smith,
Executive Director, National Assessment Governing Board.

[FR Doc. 03-29440 Filed 11-24-03; 8:45 am]

BILLING CODE 4001-01-M